DEPARTMENT OF HEALTH AND HUMAN SERVICES

Administration for Children and Families

[CFDA Number: 93.568]

Reallotment of Fiscal Year 2021 Funds for the Low Income Home Energy Program—Final

AGENCY: Office of Community Services (OCS), Administration for Children and Families (ACF), Department of Health and Human Services (HHS).

ACTION: Notice of final issuance.

SUMMARY: The ACF, OCS, Division of Energy Assistance (DEA) announces that $323,063 of funds from the fiscal year (FFY) 2021 Low Income Home Energy Assistance Program (LIHEAP) were reallotted to States, Territories, Tribes, and Tribal Organizations that received FFY 2022 direct LIHEAP grants.

DATES: This notice became effective on September 28, 2022, which is the day on which ACF awarded these reallotments.

FOR FURTHER INFORMATION CONTACT: Akm Rahman, Program Operations Branch Chief, Division of Energy Assistance, Office of Community Services, 330 C Street SW, 5th Floor; Mail Room 5425; Washington, DC 20201. Telephone: (202) 401-5306; Email: Akm.Rahman@acf.hhs.gov.

SUPPLEMENTARY INFORMATION: In accordance with Section 2607(b)(1) of the Low Income Home Energy Assistance Act (the Act), Title XXVI of the Omnibus Budget Reconciliation Act of 1981 (42 U.S.C. 8626(b)(1)), as amended, ACF published a notice in the Federal Register on September 30, 2022, 87 FR 59438, announcing the Secretary's preliminary determination that $711,932 of FFY 2021 funds for LIHEAP may be available for reallotment. No comments were received on this notice, nor did any recipients report additional funds for reallotment. However, after such publication, ACF discovered that one grant recipient could not adequately complete its necessary reporting, another grant recipient reported less unobligated funds in a revision, and three grant recipients had insufficient balances in their accounts in the Payment Management System.

These funds became available from the following grant recipients in the following amounts:

Name of grant recipient that returned funds for reallotment | FY 2021 reallotment amount
Bishop Paiute Tribe | $17,531
Colorado River Indian Tribes | 16,914
Cow Creek Band of Umpqua Tribe of Indians | 7,302
Hopland Band of Pomo Indians | 1,755
Jicarilla Apache Nation | 16,873
Kalispel Tribe of Indians | 7,921
Makah Tribe | 31,196
Muckleshoot Indian Tribe | 37,669
Nooksack Indian Tribe | 38,535
Paiute Indian Tribe of Utah | 61,183
Quileute Tribe | 1,673
Round Valley Indian Tribes | 558
Sac and Fox Nation of Oklahoma | 44,538
Samish Indian Nation | 331
Shawnee Tribe | 3,600
Spokane Tribe of Indians | 19,905
The Delaware Tribe of Indians | 15,579
Total | 323,063

The list of grant recipients that were awarded these funds was published in a Dear Colleague Letter that is posted to ACF's website at https://www.acf.hhs.gov/ocs/resource/dear-colleagues.

Pursuant to the statute cited above, these funds were reallotted on September 28, 2022, to all but three types of FFY 2022 LIHEAP grant recipients by distributing them under the formula that Congress set for FFY 2022 funding. The three types of recipients that did not receive funds were (1) those whose allocations would have been less than $25; (2) tribes or tribal organizations that agreed with their co-territorial states to receive set amounts for the entire fiscal year; and (3) states or territories that were held to the additional minimum floor required by the FY 2022 appropriations act after including the reallotment amount. No sub-recipients of these recipients or other entities may apply for these funds.

The reallotted funds may be used for any purpose authorized under LIHEAP. Grant recipients must add these funds to their total LIHEAP funds payable for FFY 2022 for purposes of calculating statutory caps on administrative costs, carryover, Assurance 16 activities, and weatherization assistance. Grant recipients must also (1) ensure that these funds are included in the amounts that ACF pre-populated on Line 1.1 of their FFY 2022 Carryover and Reallotment Reports; (2) reconcile these funds, to the extent that they received them, on a separate Federal Financial Form (SF-425); and (3) record, on their FFY 2022 Household Reports, households that receive benefits at least partly from these funds. State recipients must also ensure that these funds are included in the Grantee Survey sections of their FFY 2022 LIHEAP Performance Data Forms.

OCS recommends that, after receiving them, grant recipients obligate these funds before obligating any other federal LIHEAP funds.

Statutory Authority: 42 U.S.C. 8626(b).

Karen D. Shields,
Senior Grants Policy Specialist, Office of Grants Policy, Office of Administration.

[FR Doc. 2022-26447 Filed 12-5-22; 8:45 am]

BILLING CODE 4184-80-P